DEPARTMENT OF ENERGY

Federal Energy Regulatory Commission

[Docket Nos. RP01-530-000]

Steuben Gas Storage Company; Notice of Tariff Filing and Annual Charge Adjustment

September 7, 2001.

Take notice that on August 30, 2001, Steuben Gas Storage Company (“Steuben”), 9 Greenway Plaza, Houston, Texas 77046, tendered for filing Fourth Revised Sheet No. 5 from its FERC Gas Tariff, Original Volume No. 1 and Sixth Revised Sheet No. 1(A) from its FERC Gas Tariff Original Volume No. 2, to be effective October 1, 2001.

Steuben state that the purpose of the filing is to reflect a decrease in the ACA rate adjustment to Steuben's commodity rates effective October 1, 2001. The tariff sheets reflect a decrease of $.0001 per Dth in the ACA adjustment surcharge, resulting in a new ACA rate of $.0021 per Dth for fiscal year 2001.

Steuben states that copies of this filing are being mailed to its customers, state commission and other interested parties.

Any person desiring to be heard or to protest said filing should file a motion to intervene or a protest with the Federal Energy Regulatory Commission, 888 First Street, NE, Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-23109 Filed 9-14-01; 8:45 am]

BILLING CODE 6717-01-P